DEPARTMENT OF HEALTH AND HUMAN SERVICES

National Institutes of Health

Office of the Director, National Institutes of Health; Notice of Meeting

Pursuant to section 10(a) of the Federal Advisory Committee Act, as amended, notice is hereby given of a meeting of the Office of AIDS Research Advisory Council.

The meeting will be open to the public, with attendance limited to space available. Individuals who plan to attend and need special assistance, such as sign language interpretation or other reasonable accommodations, should notify the Contact Person listed below in advance of the meeting.

Name of Committee: Office of AIDS Research Advisory Council.

Date: February 27, 2020.

Time: 8:30 a.m. to 4:30 p.m.

Agenda: Report from the Office of AIDS Research (OAR) Director, EHE Leadership discussion; Current Burdens of HIV; Optimizing viral Load testing access for the last mile; Cost Effectiveness of Preventing AIDS complications.

Place: National Institutes of Health, National Institute of Allergy and Infectious Diseases, 5601 Fishers Lane, Room 1D13, Rockville, MD 20892.

Contact Person: Mary T. Glenshaw, Ph.D., MPH Senior Science Advisor Office of the Director, DPCPSI, Office of AIDS Research, 5601 Fishers Lane, Room 2E40, Rockville, MD 20850, 301-761-7689, mary.glenshaw@nih.gov.

Any interested person may file written comments with the committee by forwarding the statement to the Contact Person listed on this notice. The statement should include the name, address, telephone number and when applicable, the business or professional affiliation of the interested person.

In the interest of security, NIH has stringent procedures for entrance into NIH federal property. Visitors will be asked to show one form of identification (for example, a government-issued photo ID, driver's license, or passport) and to state the purpose of their visit.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: January 30, 2020.
Tyeshia M. Roberson,
Program Analyst, Office of Federal Advisory Committee Policy.

[FR Doc. 2020-02196 Filed 2-4-20; 8:45 am]

BILLING CODE 4140-01-P